DEPARTMENT OF THE INTERIOR

Bureau of Land Management

[UT-045-3130-EU; UTU-78769]

Notice of Realty Action

AGENCY: Bureau of Land Management, Interior.

ACTION: Notice; Non-competitive sale of public lands, Washington County, Utah.

SUMMARY: The public lands identified below have been examined and found suitable for disposal pursuant to sections 203 and 209 of the Federal Land Policy and Management Act of October 21, 1976 (90 Stat. 2750-51; 43 U.S.C. 1713, and 90 Stat. 2757-58, 43 U.S.C. 1719), and the Federal Land Transaction Facilitation Act of July 25, 2000 (Pub. L. 106-248), at not less than appraised market value. The potential buyer of the parcel has made application under section 209 of the Federal Land Policy and Management Act of October 21, 1976, to purchase the mineral estate along with the surface.

Salt Lake Meridian

T. 41 S., R. 14 W.,

Sec. 35, lot 20;

containing 26.18 acres.

The purpose of the proposed sale is to dispose of a parcel of public land that is difficult and uneconomic to manage as part of the public lands of the United States. It is also proposed for sale in order to allow for community expansion and economic growth for the City of St. George, Utah. The proposed sale is consistent with the St. George Field Office Resource Management Plan (March 1999), and the public interest will be served by offering the parcel for sale.

The parcel will be offered for non-competitive sale to the City of St. George. The City currently has a right-of-way from the Bureau of Land Management for a water treatment plant facility on the parcel. It is not in the public interest to offer the parcel for competitive sale.

Pursuant to the Federal Land Transaction Facilitation Act of July 25, 2000 (Pub. L. 106-248), the proceeds from the sale will be deposited into a Federal Land Disposal Account and used to acquire non-federal land within the State of Utah. The money will be used to purchase lands for the BLM, National Park Service, Forest Service, or Fish and Wildlife Service.

The patent, when issued, will reserve the following: A right-of-way thereon for ditches and canals constructed by the authority of the United States. Act of August 30, 1890 (43 U.S.C. 945).

DATES: Interested parties may submit comments concerning the proposed public land sale to the St. George Field Office Manager until March 29, 2001. The land will not be sold before April 13, 2001.

ADDRESSES: Written comments concerning the proposed sale should be sent to the Bureau of Land Management, St. George Field Office, 345 E. Riverside Drive, St. George, Utah 84790.

FOR FURTHER INFORMATION CONTACT: Additional information concerning the land sale, including relevant planning and environmental documentation, may be obtained from the St. George Field Office at the above address. Telephone calls may be directed to Randy Massey at (435) 688-3274.

SUPPLEMENTARY INFORMATION: Objections to the sale will be reviewed by the State Director, who may sustain, vacate, or modify this realty action. In the absence of any objections, this proposal will become the final determination of the Department of the Interior.

Publication of this notice in the Federal Register will segregate the public lands from appropriations under the public land laws, including the mining laws, pending disposition of this action, or 270 days from the date of publication of this notice, whichever occurs first. Pursuant to the application to convey the mineral estate, the mineral interests of the United States are segregated by this notice from appropriation under the public land laws, including the mining laws for a period of two years from the date of filing the application.

Dated: January 24, 2001.
James D. Crisp,
St. George Field Office Manager.

[FR Doc. 01-3473 Filed 2-9-01; 8:45 am]

BILLING CODE 4310-DQ-M